OFFICE OF PERSONNEL MANAGEMENT

Submission for Review: 3206-0182, Optional Form 306 (OF 306)

AGENCY: Office of Personnel Management.

ACTION: 30-Day Notice and request for comments.

SUMMARY: The Office of Personnel Management (OPM), Suitability Executive Agent Programs, is notifying the general public and Federal agencies that OPM proposes to request the Office of Management and Budget (OMB) renew a previously-approved information collection, Optional Form 306 (OF 306).

DATES: Comments are encouraged and will be accepted until October 31, 2022.

ADDRESSES: Written comments and recommendations for the proposed information collection should be sent within 30 days of publication of this notice to https://www.reginfo.gov/public/do/PRAMain. Find this particular information collection by selecting “Currently under Review—Open for Public Comments” or by using the search function. The general policy for comments and other submissions from member of the public is to make these submissions available for public viewing at https://www.regulations.gov as they are received without change, including any personal identifiers or contact information.

FOR FURTHER INFORMATION CONTACT: A copy of this information collection, with applicable supporting documentation, may be obtained by contacting Office of Personnel Management, Suitability Executive Agent Programs, P.O. Box 699, Slippery Rock, PA 16057, or by electronic mail at SuitEAForms@opm.gov. Please contact Alexys Stanley at 202-936-2501 if you have questions.

SUPPLEMENTARY INFORMATION: This notice announces that OPM has submitted to OMB a request for renewal of a previously-approved information collection, control number 3206-0182, Optional Form 306 (OF 306). The information collection (OMB No. 3206-0182) was previously published in the Federal Register on April 27, 2022 at 87 FR 24885, allowing for a 60-day public comment period. OPM received five comments in response to its request for this collection, which are addressed in the Supplemental Statement of this ICR package. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The OF 306 form is completed by applicants who are under consideration for Federal or Federal contract employment and collects information about an applicant's selective service registration, military service, and general background. The information collected on this form is mainly used to determine a person's acceptability for Federal and Federal contract employment, and that person's retirement status and life insurance enrollment. The information on this form may be used in conducting an investigation to determine a person's suitability or ability to hold a security clearance, and it may be disclosed to authorized officials making similar, subsequent determinations. The OF 306 asks for personal identifying data and information about violations of the law, past convictions, imprisonments, probations, parole, military court martial, delinquency on a Federal debt, Selective Service Registration, United States military service, Federal civilian or military retirement benefits received or applied for, and life insurance enrollment.

A copy of the proposed information collection and the associated instructions is available at https://www.opm.gov/forms/pdf_fill/of0306.pdf. OPM is proposing to amend the instructions to better clarify the timing of when an individual may be asked to complete the OF 306. No other changes are proposed. The systems of record notice for this collection is: https://www.opm.gov/information-management/privacy-policy/sorn/opm-sorn-govt-1-general-personnel-records.pdf.

Analysis

Agency: Suitability Executive Agent Program, Office of Personnel Management.

Title: Optional Form 306 (OF 306).

OMB Number: 3206-0182.

Frequency: On occasion.

Affected Public: Individuals or Households.

Number of Respondents: 315,478.

Estimated Time Per Respondent: 15 minutes.

Total Burden Hours: 78, 870.

Office of Personnel Management.
Kellie Cosgrove Riley,
Director, Office of Privacy and Information Management.

[FR Doc. 2022-21408 Filed 9-29-22; 8:45 am]

BILLING CODE 6325-66-P